DEPARTMENT OF TRANSPORTATION

Federal Aviation Administration

Noise Exposure Map Notice for Van Nuys Airport, Van Nuys, California

AGENCY: Federal Aviation Administration, DOT.

ACTION: Notice.

SUMMARY: The Federal Aviation Administration (FAA) announces its determination that the noise exposure maps submitted by Los Angeles World Airports, for Van Nuys Airport under the provisions of 49 U.S.C. 47501 et seq. (Aviation Safety and Noise Abatement Act) and 14 CFR part 150 are in compliance with applicable requirements.

DATES: Effective Date: The effective date of the FAA's determination on the noise exposure maps is October 3, 2012.

FOR FURTHER INFORMATION CONTACT: Victor Globa, Environmental Protection Specialist, Federal Aviation Administration, Los Angeles Airports District Office, Mailing Address: P.O. Box 92007, Los Angeles, California 90009-2007. Street Address: 15000 Aviation Boulevard, Hawthorne, California 90261. Telephone: 310/725-3637

SUPPLEMENTARY INFORMATION: This notice announces that the FAA finds that the noise exposure maps submitted for Van Nuys Airport are in compliance with applicable requirements of 14 Code of Federal Regulations (CFR) Part 150 (hereinafter referred to as “Part 150”), effective October 3, 2012. Under 49 U.S.C. section 47503 of the Aviation Safety and Noise Abatement Act (hereinafter referred to as “the Act”), an airport operator may submit to the FAA noise exposure maps which meet applicable regulations and which depict non-compatible land uses as of the date of submission of such maps, a description of projected aircraft operations, and the ways in which such operations will affect such maps. The Act requires such maps to be developed in consultation with interested and affected parties in the local community, government agencies, and persons using the airport. An airport operator who has submitted noise exposure maps that are found by FAA to be in compliance with the requirements of Part 150, promulgated pursuant to the Act, may submit a noise compatibility program for FAA approval which sets forth the measures the operator has taken or proposes to take to reduce existing non-compatible uses and prevent the introduction of additional non-compatible uses.

The FAA has completed its review of the noise exposure maps and accompanying documentation submitted by Los Angeles World Airports. The documentation that constitutes the “Noise Exposure Maps” as defined in section 150.7 of Part 150 includes: Figure 5 VNY Noise Monitor VNY13 (Formerly V7) Location; Figure 7, 2011 Existing Condition Noise Exposure Map; Figure 8, 2016 Five-Year Forecast Condition Noise Exposure Map; Figure 9, FAA Airport Diagram for VNY; Figure 10, Modeled Flight Tracks for Runway 16R and 34L Jet Arrivals; Figure 11, Modeled Flight Tracks for Runway 16R and 34L Jet Departures; Figure 12, Modeled Flight Tracks for Runway 16R and 34L Propeller Arrivals; Figure 13, Modeled Flight Tracks for Runway 16L and 34R Propeller Arrivals; Figure 14, Modeled Flight Tracks for Runway 16R and 34L Propeller Departures; Figure 15, Modeled Flight Tracks for Runway 16L and 34R Propeller Departures; Figure 16, Modeled Flight Tracks for Helicopter Arrivals; Figure 17, Modeled Flight Tracks for Helicopter Departures; Figure 18, Modeled Flight Tracks for Runways 16L/16R Local Patterns; Figure 19, Modeled Flight Tracks for Runways 34L/34R Local Patterns; Table 3, Estimated Compatible, Noncompatible, and Total Dwelling Units and Population within 2011 and 2016 Noise Exposure Map Contours; Table 4, Forecast 2011 Annual Average Day Operations; Table 5, Forecast 2016 Annual Average Day Operations; Table 6, Runway Utilization for Fixed-Wing Aircraft Arrivals and Departures; Table 7, Runway Utilization Rates for Local Pattern Operations; Table 8, Helipad Utilization Rates for Helicopter Arrivals and Departures; Table 9, Fixed-Wing Departure Flight Track Utilization Rates; Table 10, Fixed-Wing Arrival Flight Track Utilization Rates; and, Table 11, Helicopter Flight Track Utilization Rates.

The FAA has determined that these Noise Exposure Maps and accompanying documentation are in compliance with applicable requirements. This determination is effective on October 3, 2012.

FAA's determination on an airport operator's noise exposure maps is limited to a finding that the maps were developed in accordance with the procedures contained in Appendix A of Part 150. Such determination does not constitute approval of the applicant's data, information or plans, or a commitment to approve a noise compatibility program or to fund the implementation of that program. If questions arise concerning the precise relationship of specific properties to noise exposure contours depicted on a noise exposure map submitted under section 47503 of the Act, it should be noted that the FAA is not involved in any way in determining the relative locations of specific properties with regard to the depicted noise contours, or in interpreting the noise exposure maps to resolve questions concerning, for example, which properties should be covered by the provisions of section 47506 of the Act. These functions are inseparable from the ultimate land use control and planning responsibilities of local government. These local responsibilities are not changed in any way under Part 150 or through FAA's review of noise exposure maps. Therefore, the responsibility for the detailed overlaying of noise exposure contours onto the map depicting properties on the surface rests exclusively with the airport operator that submitted those maps, or with those public agencies and planning agencies with which consultation is required under section 47503 of the Act. The FAA has relied on the certification by the airport operator, under section 150.21 of Part 150, that the statutorily required consultation has been accomplished.

Copies of the full noise exposure map documentation and of the FAA's evaluation of the maps are available for examination at the following locations:

Federal Aviation Administration, Western-Pacific Region Office, Airports Division, Room 3012, 15000 Aviation Boulevard, Hawthorne, California 90261.

Federal Aviation Administration, Los Angeles Airports District Office, Room 3000, 15000 Aviation Boulevard, Hawthorne, California 90261.

Mr. Scott Tatro, Los Angeles World Airports, Environmental Services Division, 7301 World Way West, 3rd Floor, Los Angeles, California 90045.

Questions may be directed to the individual named above under the heading FOR FURTHER INFORMATION CONTACT.

Issued in Hawthorne, California, October 3, 2012.
Mark A. McClardy,
Manager, Airports Division, Western-Pacific Region.

[FR Doc. 2012-25888 Filed 10-19-12; 8:45 am]

BILLING CODE 4910-13-P